FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than June 30, 2017.

A. Federal Reserve Bank of Minneapolis (Jacquelyn K. Brunmeier, Assistant Vice President) 90 Hennepin Avenue, Minneapolis, Minnesota 55480-0291:

1. Thomas M. Beck, Eden Prairie, Minnesota, as trustee of the Walter C. Rasmussen Marital Trust Created Under Trust Agreement dated December 26, 1985, Minneapolis, Minnesota, and as trustee of the Walter C. Rasmussen Family Trust Created Under Trust Agreement dated December 26, 1985, Minneapolis, Minnesota; to acquire voting shares of Northeast Securities Corporation, Minneapolis, Minnesota, and thereby indirectly acquire shares of Northeast Bank, Minneapolis, Minnesota.

Board of Governors of the Federal Reserve System, June 12, 2017.
Yao-Chin Chao,
Assistant Secretary of the Board.

[FR Doc. 2017-12405 Filed 6-14-17; 8:45 am]

BILLING CODE 6210-01-P